DEPARTMENT OF TRANSPORTATION

Federal Motor Carrier Safety Administration

[Docket No. FMCSA-2012-0154; FMCSA-2012-0332; FMCSA-2013-0121; FMCSA-2013-0122; FMCSA-2013-0123]

Qualification of Drivers; Application for Exemptions; Hearing

AGENCY: Federal Motor Carrier Safety Administration (FMCSA), DOT.

ACTION: Notice of final disposition.

SUMMARY: FMCSA announces its decision to grant requests from 20 individuals for exemptions from the Agency's physical qualifications standard concerning hearing for interstate drivers. The current regulation prohibits hearing impaired individuals from operating CMVs in interstate commerce. After notice and opportunity for public comment, the Agency concluded that granting exemptions for these commercial driver's license (CDL) holders to operate property-carrying CMVs will provide a level of safety that is equivalent to or greater than the level of safety maintained without the exemptions. The exemptions are valid for a 2-year period and may be renewed, and the exemptions preempt State laws and regulations.

DATES: The exemptions are effective January 13, 2014. The exemptions expire on January 13, 2016.

FOR FURTHER INFORMATION CONTACT: Elaine M. Papp, Chief, Medical Programs Division, (202) 366-4001, fmcsamedical@dot.gov, FMCSA, Department of Transportation, 1200 New Jersey Avenue SE., Room W64-224, Washington, DC 20590-0001. Office hours are 8:30 a.m. to 5 p.m., e.t., Monday through Friday, except Federal holidays.

SUPPLEMENTARY INFORMATION:

A. Electronic Access

You may see all the comments online through the Federal Document Management System (FDMS) at: http://www.regulations.gov.

Docket: For access to the docket to read background documents or comments, go to http://www.regulations.gov and/or Room W12-140 on the ground level of the West Building, 1200 New Jersey Avenue SE., Washington, DC, between 9 a.m. and 5 p.m., e.t., Monday through Friday, except Federal holidays.

Privacy Act: Anyone may search the electronic form of all comments received into any of DOT's dockets by the name of the individual submitting the comment (or of the person signing the comment, if submitted on behalf of an association, business, labor union, or other entity). You may review DOT's complete Privacy Act Statement in the Federal Register (73 FR 3316, January 17, 2008).

B. Background

Under 49 U.S.C. 31136(e) and 31315, FMCSA may grant an exemption from the safety regulations for a 2-year period if it finds “such exemption would likely achieve a level of safety that is equivalent to or greater than the level that would be achieved absent such exemption.” The statute also allows the Agency to renew exemptions at the end of the 2-year period. The current provisions of the FMCSRs concerning hearing state that a person is physically qualified to drive a CMV if that person:

First perceives a forced whispered voice in the better ear at not less than 5 feet with or without the use of a hearing aid or, if tested by use of an audiometric device, does not have an average hearing loss in the better ear greater than 40 decibels at 500 Hz, 1,000 Hz, and 2,000 Hz with or without a hearing aid when the audiometric device is calibrated to American National Standard (formerly ASA Standard) Z24.5—1951.

49 CFR 391.41(b)(11). This standard was adopted in 1970, with a revision in 1971 to allow drivers to be qualified under this standard while wearing a hearing aid, 35 FR 6458, 6463 (April 22, 1970) and 36 FR 12857 (July 3, 1971).

FMCSA grants 20 CDL holders an exemption from § 391.41(b)(11) concerning hearing to enable them to operate property-carrying CMVs in interstate commerce for a 2-year period. The Agency's decision on these exemption applications is based on the current medical literature and information and the “Executive Summary on Hearing, Vestibular Function and Commercial Motor Driving Safety” (the 2008 Evidence Report) presented to FMCSA on August 26, 2008. The evidence report reached two conclusions regarding the matter of hearing loss and CMV driver safety: (1) No studies that examined the relationship between hearing loss and crash risk exclusively among CMV drivers were identified; and (2) evidence from studies of the private driver license holder population does not support the contention that individuals with hearing impairment are at an increased risk for a crash. In addition, the Agency reviewed each applicant's driving record found in the CDLIS,¹ for CDL holders, and inspections recorded in MCMIS.² Each applicant's record demonstrated a safe driving history. The Agency believes the drivers covered by the exemptions do not pose a risk to public safety.

¹ Commercial Driver License Information System (CDLIS) is an information system that allows the exchange of commercial driver licensing information among all the States. CDLIS includes the databases of 51 licensing jurisdictions and the CDLIS Central Site, all connected by a telecommunications network.

² Motor Carrier Management Information System (MCMIS) is an information system that captures data from field offices through SAFETYNET, CAPRI, and other sources. It is a source for FMCSA inspection, crash, compliance review, safety audit, and registration data.

C. Comments

FMCSA announced the exemption applications and requested public comment for each of the applicants in one of the notices below. For those applicants discussed in a previous notice but who are not mentioned in this notice, the Agency will complete the evaluation of those applications and announce its decision at a later date.

Docket # FMCSA-2012-0154

On May 25, 2012, FMCSA published a notice of receipt of exemption applications and requested public comment on 45 individuals. The comment period ended on July 30, 2012. This application was in response to a request from the National Association of the Deaf (NAD). In response to this notice, FMCSA received 570 comments and granted 40 exemptions. The 570 comments were addressed in the Agency's notice published on February 1, 2013 (78 FR 7479).

Docket # FMCSA-2012-0332

On July 16, 2013, FMCSA published a notice of receipt of exemption applications and requested public comment on 27 individuals. The comment period ended on August 15, 2013. In response to the notice, FMCSA received seven comments. All seven commenters support the idea of granting exemptions.

Docket # FMCSA-2013-0121

On May 3, 2013, FMCSA published a notice of receipt of exemption applications and requested public comment on 9 individuals. The comment period ended on June 3, 2013. In response to the notice, FMCSA received three comments. All three commenters support the idea of granting exemptions.

Docket # FMCSA-2013-0122

On May 6, 2013, FMCSA published a notice of receipt of exemption applications and requested public comment on 16 individuals. The comment period ended on June 5, 2013. In response to the notice, FMCSA received four comments. All four commenters support the idea of granting exemptions.

Docket # FMCSA-2013-0123

On July 16, 2013, FMCSA published a notice of receipt of exemption applications and requested public comment on 27 individuals. The comment period ended on August 15, 2013. In response to the notice, FMCSA received seven comments. All seven commenters support the idea of granting exemptions.

D. Exemptions Granted

Following individualized assessments of the exemption applications, FMCSA grants exemptions from 49 CFR 391.41(b)(11) to 20 individuals. Under current FMCSA regulations, all of the 20 drivers receiving exemptions from 49 CFR 391.41(b)(11) would have been considered physically qualified to drive a CMV in interstate commerce except that they do not meet the hearing requirement. FMCSA has determined that the following applicants should be granted an exemption.

Johsua Arango

Mr. Arango holds a class A CDL from Florida.

Alan T. Brown

Mr. Brown holds a class B CDL from New Jersey.

Mark Canoyer

Mr. Canoyer holds a class A CDL from Minnesota.

Nelson De Leon

Mr. De Leon holds a class A CDL from Florida.

Jerry Ferguson

Mr. Ferguson holds a class A CDL from Texas.

Anthony Gray

Mr. Gray holds a class A CDL from Kentucky.

Sue H. Gregory

Ms. Gregory holds a class A CDL from Utah.

David Hoffman

Mr. Hoffman holds a class A CDL from South Dakota.

Christopher A. Jayne

Mr. Jayne holds a class A CDL from Missouri.

Valerie Johnson

Ms. Johnson holds a class B CDL from California.

William Wallace Larson

Mr. Larson holds a class A CDL from North Carolina.

Roy Lloyd, Sr.

Mr. Lloyd holds a class A CDL from Virginia.

Ray Norris

Mr. Norris holds a class A CDL from Texas.

Gilbert Partida

Mr. Partida holds a class A CDL from Texas.

Johnny Pierson

Mr. Pierson holds a class A CDL from Alabama.

James Queen

Mr. Queen holds a class A CDL from Florida.

Noel A. Rodriguez

Mr. Rodriguez holds a class A CDL from New Hampshire.

James Schubin

Mr. Schubin holds a class A CDL from California.

Benton Scott

Mr. Scott holds a class A CDL from Mississippi.

Morris W. Townsend

Mr. Townsend holds a class A CDL from North Carolina.

E. Basis for Exemption

Under 49 U.S.C. 31136(e) and 31315, FMCSA may grant an exemption from the hearing standard in 49 CFR 391.41(b)(11) if the exemption is likely to achieve an equivalent or greater level of safety than would be achieved without the exemption. With the exemption, applicants can drive in interstate commerce. Thus, the Agency's analysis focuses on whether an equal or greater level of safety is likely to be achieved by permitting each of these drivers to drive in interstate commerce as opposed to restricting him or her to driving in intrastate commerce. Based on its review of each driver's record, the Agency has concluded that allowing these applicants to drive in interstate commerce will achieve an equal level of safety. Each driver must comply with the terms and conditions of the exemption. This includes reporting any crashes or accidents as defined in 49 CFR 390.5 and reporting all citations and convictions for disqualifying offenses under 49 CFR part 383 and 49 CFR 391.

Conclusion

The Agency is granting exemptions from the hearing standard, 49 CFR 391.41(b)(11), to 20 individuals based on a thorough evaluation of each driver's qualifications and safety experience. Safety analysis of information relating to these 20 applicants meets the burden of showing that granting the exemptions would achieve a level of safety that is equivalent to or greater than the level that would be achieved without the exemption. By granting the exemptions, the CMV industry will gain 20 additional CMV drivers. In accordance with 49 U.S.C. 31315, each exemption will be valid for 2 years from the effective date with annual recertification required unless revoked earlier by FMCSA. The exemption will be revoked if the following occurs: (1) The person fails to comply with the terms and conditions of the exemption; (2) the exemption has resulted in a lower level of safety than was maintained prior to being granted; or (3) continuation of the exemption would not be consistent with the goals and objectives of 49 U.S.C. 31136 and 31315.

FMCSA exempts the following 20 drivers for a period of 2 years from the physical qualification standard concerning hearing: Johsua Arango (FL); Alan Brown (NJ); Mark Canoyer (MN); Nelson De Leon (FL); Jerry Ferguson (TX); Anthony Gray (KY); Sue H. Gregory (UT); David Hoffman (SD); Christopher Jayne (MO); Valerie Johnson (CA); William Larson (NC); Roy Lloyd, Sr. (VA); Ray Norris (TX); Gilbert Partida (TX); Johny Pierson (AL); James Queen (FL); Noel Rodriguez (NH); James Schubin (CA); Benton Scott (MS); and Morris Townsend (NC).

Dated: January 7, 2014.
Anne S. Ferro,
Administrator.

[FR Doc. 2014-00411 Filed 1-10-14; 8:45 am]

BILLING CODE 4910-EX-P